DEPARTMENT OF ENERGY

Federal Energy Regulatory Commission

[Docket No. EL00-57-000]

Niagara Mohawk Power Corporation, Complainant, v. New York Independent System Operator, Respondent; Notice of Filing

March 28, 2000.

Take notice that on March 24, 2000, Niagara Mohawk Power Corporation (Niagara Mohawk) submitted a Complaint pursuant to Section 206 of the Federal Power Act against the New York Independent System Operator (NYISO). The Complaint concerns the NYISO's refusal to permit Niagara Mohawk to self-supply Operating Reserves and the recent increases in the prices for Operating Reserves in the NYISO.

Copies of the filing were served upon the NYISO and other interested parties.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before April 13, 2000. Protests will be considered by the Commission in determining the appropriate action to be taken, but will not serve to make protestants parties to the proceeding. Any person wishing to become a party must file a motion to intervene. Copies of this filing are on file with the Commission and are available for public inspection in the Public Reference Room. This filing may also be viewed for public inspection in the Public Reference Room. This filing may also be viewed on the Internet at http://www.ferc.fed.us/online/rims.htm (call 202-208-2222) for assistance. Answers to the complaint shall also be due on or before April 13, 2000.

David P. Boergers,
Secretary.

[FR Doc. 00-8115 Filed 3-31-00; 8:45 am]

BILLING CODE 6717-01-M